DEPARTMENT OF AGRICULTURE

Office of the Secretary

Privacy Act of 1974; Abolish Obsolete System of Records

AGENCY: Office of the Secretary, Department of Agriculture (USDA).

ACTION: Notice of abolishment for USDA/FS-51 Electronic Corpsmember Information System (ELCID).

SUMMARY: A review of this Privacy Act System of Records has concluded that this system is no longer in effect and obsolete. This system is being abolished from the Forest Service System of Records in accordance with the Privacy Act of 1974 (5 U.S.C. 552a), as amended.

DATES: This notice is effective on September 10, 2008.

ADDRESSES: For additional information contact the Director of Recreation and Heritage Resources, 1400 Independence Avenue, SW., Mailstop 1136, Washington, DC 20250-1136.

FOR FURTHER INFORMATION CONTACT: Bob Gonzales, telephone: (303) 236-9914.

SUPPLEMENTARY INFORMATION: The Privacy Act of 1974 (5 U.S.C. 552a), as amended, requires that each agency publish a notice of the existence and character of each new or altered “system of records.” 5 U.S.C. 552a(a)(5). This notice identifies and abolishes a Forest Service discontinued and obsolete system of records. The Forest Service is abolishing the following system of records which, upon review, is no longer used and is obsolete: USDA/FS-51 ELCID. The records have been transferred to the Federal Records Center and destroyed according to the Federal Records Disposal Act of 1943 (44 U.S.C. 366-380) and the Federal Records Act of 1950, and as designated in the Forest Service Records Management Handbook (FSH) 6209.11.

Dated: August 27, 2008.
Edward T. Schafer,
Secretary.

[FR Doc. E8-21003 Filed 9-9-08; 8:45 am]

BILLING CODE 3410-11-P